DEPARTMENT OF HEALTH AND HUMAN SERVICES

National Institutes of Health

Prospective Grant of Start-Up Exclusive License: Manual Device for Constructing Tissue Micro Arrays and Methods for Making Cryo Arrays for Use in Association With the Device

AGENCY: National Institutes of Health, Public Health Service, HHS.

ACTION: Notice.

SUMMARY: This is notice, in accordance with 35 U.S.C. 209(c)(1) and 37 CFR 404.7(a)(1)(i), that the National Institutes of Health (NIH), Department of Health and Human Services, is contemplating the grant of a start-up exclusive license to practice the inventions embodied in U.S. Patent No. 7,854,899, (E-098-2004/0) filed 08/26/2004 and issued 12/20/2010 entitled “Template Methods and Device for Preparing Sample Arrays”; by Hewitt et al. (NCI); and U.S. Patent No. 6,951,761 9 (E-064-2001/0) filed 08/30/2002 and issued 11/04/2005 “Measurements of Multiple Molecules Using a Cryoarray” by Star et al. (NIDDK) to Micatu, Inc. having a place of business at 231 West Water Street, Elmira, NY 14901. The patent rights in this invention have been assigned to the United States of America.

DATES: Only written comments and/or application for a license that are received by the NIH Office of Technology Transfer on or before April 10, 2013 will be considered.

ADDRESSES: Requests for a copy of the patent application, inquiries, comments and other materials relating to the contemplated license should be directed to: Tedd Fenn, Office of Technology Transfer, National Institutes of Health, 6011 Executive Boulevard, Suite 325, Rockville, MD 20852-3804; Email: fennea@mail.nih.gov; Telephone: 301-435-5031; Facsimile: 301-402-0220.

SUPPLEMENTARY INFORMATION: The prospective worldwide exclusive license will be royalty bearing and will comply with the terms and conditions of 35 U.S.C. 209 and 37 CFR 404.7. The prospective exclusive license may be granted unless, within fifteen (15) days from the date of this published Notice, NIH receives written evidence and argument that establishes that the grant of the license would not be consistent with the requirements of 35 U.S.C. 209 and 37 CFR 404.7.

The patents relate to a device for tissue microarray construction having a block of embedding medium, a platform configured to retain the block, a templates secured to the platform and aligned to guide needles into the embedding block; and methods of making a block containing liquid biological samples that can be frozen and sectioned to make tissue microarray.

The field of use may be limited to the field of devices for construction of tissue microarrays.

Properly filed competing applications for a license filed in response to this notice will be treated as objections to the contemplated license. Comments and objections submitted in response to this notice will not be made available for public inspection, and, to the extent permitted by law, will not be released under the Freedom of Information Act, 5 U.S.C. 552.

Dated: March 18, 2013.
Richard U. Rodriguez,
Director, Division of Technology Development & Transfer, Office of Technology Transfer, National Institutes of Health.

[FR Doc. 2013-06835 Filed 3-25-13; 8:45 am]

BILLING CODE 4140-01-P